DEPARTMENT OF TRANSPORTATION

Federal Aviation Administration

14 CFR Part 71

[Docket No. FAA-2002-13413; Airspace Docket No. 02-ACE-6]

Realignment of Federal Airways V-72 and V-289; MO

AGENCY: Federal Aviation Administration (FAA), DOT.

ACTION: Final Rule, correction.

SUMMARY: This action corrects a final rule published in the Federal Register on January 16, 2003 (68 FR 2187). In that rule, the radials for Federal Airway 72 (V-72) and Federal Airway 289 (V-289) northeast of the Dogwood, MO, Very High Frequency Omnidirectional Range/Tactical Air Navigation (VORTAC) were inadvertently published in magnetic values rather than the true radials. This action corrects that error.

EFFECTIVE DATE: 0901 UTC, March 20, 2003.

FOR FURTHER INFORMATION CONTACT: Steve Rohring, Airspace and Rules Division, ATA-400, Office of Air Traffic Airspace Management, Federal Aviation Administration, 800 Independence Avenue, SW., Washington, DC 20591; telephone: (202) 267-8783.

SUPPLEMENTARY INFORMATION: On January 16, 2003, Airspace Docket No. 02-ACE-06 (68 FR 2187), was published amending the legal description of V-72 and V-289. The descriptions inadvertently provided magnetic values for the coordinates rather than the true radials. This action corrects that error.

Correction to Final Rule

Accordingly, pursuant to the authority delegated to me, the legal descriptions for V-72 and V-289, as published in the Federal Register on January 16, 2003, (68 FR 2187), and incorporated by reference in 14 CFR 71.1, is corrected as follows:

§ 71.1 [Corrected]

On page 2188, correct the legal descriptions of V-72 and V-289, to read as follows:

Paragraph 6010(a)—Domestic VOR Federal Airways

* * * * *

V-72 [Revised]

From Razorback, AR, Dogwood, MO; INT Dogwood 058° and Maples, MO, 236° radials; Maples; Farmington, MO; Centralia, IL; Bible Grove, IL; Mattoon, IL; to Bloomington, IL. From Rosewood, OH; Mansfield, OH; INT Mansfield 098° and Akron, OH, 233° radials; Akron; Youngstown, OH; Tidioute, PA; Bradford, PA; INT Bradford 078° and Elmira, NY, 252° radials; Elmira; Binghampton, NY; Rockdale, NY; Albany, NY; Cambridge, NY; INT Cambridge 063° and Lebanon, NH, 214° radials; to Lebanon.

* * * * *

V-289 [Revised]

From Beaumont, TX; INT Beaumont 323° and Lufkin, TX, 161° radials; Lufkin; Gregg County, TX; Texarkana, AR; Fort Smith, AR; Harrison, AR; Dogwood, MO; INT Dogwood 058° and Maples, MO, 236° radials; INT Maples 236° and Vichy, MO, 204° radials; to Vichy.

* * * * *

Issued in Washington, DC, on February 5, 2003.
Reginald C. Matthews,
Manager, Airspace and Rules Division.

[FR Doc. 03-3963 Filed 2-18-03; 8:45 am]

BILLING CODE 4910-13-P